UNITED STATES INSTITUTE OF PEACE

Sunshine Act, Notice of Meeting

DATE/TIME: Thursday, March 22, 2001, 9 a.m.-5:30 p.m.

LOCATION: 1200 17th Street, NW., Suite 200, Washington, DC 20036

STATUS: Open Session—Portions may be closed pursuant to Subsection (c) of Section 552(b) of Title 5, United States Code, as provided in subsection 1706(h)(3) of the United States Institutes of Peace Act, Public Law 98-525.

AGENDA: March 2001 Board Meeting; Approval of Minutes of the Ninety-Eighth Meeting (January 18, 2001) of the Board of Directors; Chairman's Report; President's Report; Committee Reports; Consideration of fellowship applications and individual Grants; Other General Issues

CONTACT: Dr. Sheryl Brown, Director, Office of Communications, Telephone: (202) 457-1700.

Dated: March 4, 2001.
Charles E. Nelson,
Vice President for Management and Finance, United States Institute of Peace.

[FR Doc. 01-5866 Filed 3-6-01; 2:04 pm]

BILLING CODE 6820-AR-M